DEPARTMENT OF AGRICULTURE

Foreign Agricultural Service

Trade Adjustment Assistance for Farmers

AGENCY: Foreign Agricultural Service, USDA.

ACTION: Notice.

The Administrator, Foreign Agricultural Service (FAS), today accepted a petition filed by National Grape Cooperative Association representing New York, Pennsylvania, and Ohio Concord juice grape producers for trade adjustment assistance. The Administrator will determine within 40 days whether or not increasing imports of grape juice, not concentrated, contributed importantly to a decline in domestic producer prices of 20 percent or more during the marketing period beginning August 1, 2005, and ending July 31, 2006. If the determination is positive, all Concord juice grape producers who produce and market their Concord juice grapes in New York, Pennsylvania, and Ohio will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: February 5, 2007.
Michael W. Yost,
Administrator, Foreign Agricultural Service.

[FR Doc. E7-2777 Filed 2-15-07; 8:45 am]

BILLING CODE 3410-10-P